DEPARTMENT OF LABOR

Employment and Training Administration

[TA-W-40,709]

Agilent Technologies, Roseville, California; Notice of Termination of Investigation

Pursuant to section 221 of the Trade Act of 1974, an investigation was initiated on February 4, 2002, in response to a petition filed on behalf of workers at Agilent Technologies, Roseville, California.

The investigation revealed that one of the three petitioners was not an employee of the Roseville, California plant. Only a company official or authorized representative such as a union representative may submit a Trade Adjustment Assistance petition for more than one location of a company.

Consequently further investigation in this case would serve no purpose, and the investigation has been terminated.

Signed in Washington, DC, this 6th day of May, 2002.
Linda G. Poole,
Certifying Officer, Division of Trade Adjustment Assistance.

[FR Doc. 02-15435 Filed 6-18-02; 8:45 am]

BILLING CODE 4510-30-P